DEPARTMENT OF COMMERCE

National Oceanic and Atmospheric Administration

[I.D. 083006C]

Vessel Monitoring Systems; Approved Mobile Transmitting Units for use in the Reef Fish Fishery of the Gulf of Mexico

AGENCY: National Marine Fisheries Service (NMFS), National Oceanic and Atmospheric Administration (NOAA), Commerce.

ACTION: Notice of vessel monitoring systems; type-approval.

SUMMARY: This document provides notice of vessel monitoring systems (VMS) approved by NOAA for use by vessels participating in the Reef Fish Fishery of the Gulf of Mexico and sets forth relevant features of the VMS.

ADDRESSES: To obtain copies of the list of NOAA-approved VMS mobile transmitting units and NOAA-approved VMS communications service providers, please contact the VMS Support Center at phone 888-219-9228, fax 301-427-0049, or write to NOAA Fisheries Office for Law Enforcement (OLE), VMS Support Center, 8484 Georgia Avenue, Suite 415, Silver Spring, MD 20910.

For more addresses regarding approved VMS, see the SUPPLEMENTARY INFORMATION section, under the heading VMS Provider Addresses.

FOR FURTHER INFORMATION CONTACT: For questions regarding the status of VMS provider evaluations, contact Jonathan Pinkerton, National VMS Program Manager, phone 301-427-2300; fax 301-427-0049.

For questions regarding the Reef Fish Fishery of the Gulf of Mexico VMS requirement, contact Beverly Lambert, Southeast Divisional VMS Program Manager, NMFS Office for Law Enforcement, Southeast Division, phone 727-824-5344.

SUPPLEMENTARY INFORMATION:

I. VMS Mobile Transceiver Units

A. BOATRACS - FMTC/G

The Boatracs satellite communications VMS transmitting unit that meets the minimum technical requirements for the Reef Fish Fishery is the BOATRACS - FMTC/G. The address for the Boatracs distributor dealer contact is provided in this notice under the heading “VMS Provider Addresses.”

The FMTC/G is an integrated Global Positioning System (GPS) two-way satellite communications system, consisting of two major hardware components, the Mobile Communication Transceiver (MCT) and the Enhanced Display Unit (EDU). The MCT contains the antenna and integrated GPS that communicates with the satellite and contains the operating circuitry and memory. The EDU is a shock and splash resistant display and keyboard unit consisting of a liquid crystal display, keyboard, with adjustable contrast and brightness, and audible alerts. A backlight illuminates the display for night view. The EDU has message waiting, no signal, and audible message received indicators.

The MCT is 6.7 inches high, 11.4 inches wide and weighs 11 pounds. The base of the unit is 6.595 inches in diameter. The transceiver draws approximately 2.3 amps of current from the power supply while transmitting and 1.2 amps when the vessel is idle.

The EDU is a hardened and splash proof keyboard display unit with a 15-line X 40-character screen that allows for both text and graphics. It is 12.72 inches wide, 9.3 inches long, 2.21 inches in depth, and weighs 3 pounds and is holster-mounted in the cabin.

A vessel owner may purchase this system by contacting the entity identified in this notice under the heading “VMS Provider Address.” The owner should identify him or herself as a vessel owner issued a permit to operate in the Reef Fish Fishery of the Gulf of Mexico, so the transceiver set can be properly configured.

B. Thrane & Thrane Sailor 3026D Gold VMS

The Thrane & Thrane Sailor 3026D Gold VMS(TT-3026D) meets the minimum technical requirements for vessels issued permits to operate in the Reef Fish Fishery of the Gulf of Mexico. The address for the Thrane & Thrane distributor contact is provided in this notice under the heading “VMS Provider Addresses.”

The TT-3026D features an integrated GPS/Inmarsat-C unit and a marine grade monitor with keyboard and integrated mouse. The unit is factory pre-configured for NMFS VMS operations (non-Global Maritime Distress & Safety System). Satellite commissioning services are provided by Thrane & Thrane personnel.

Automatic GPS position reporting starts after transceiver installation and power activation onboard the vessel. The unit is an integrated transceiver/antenna/GPS design using a floating 10 to 32 VDC power supply. The unit is configured for automatic reduced position transmissions when the vessel is stationary (i.e., in port). It allows for port stays without power drain or power shut down. The unit restarts normal position transmission automatically when the vessel goes to sea.

The TT-3026D provides operation down to 15 degree angles. The unit has the capability of two-way communications to send formatted forms and to receive e-mail and other messages. A configuration option is available to automatically send position reports to a private address, such as a fleet management company.

A vessel owner may purchase this system by contacting the entity identified in this notice under the heading “VMS Provider Addresses.” The owner should identify him or herself as a vessel owner issued a permit to operate in the Reef Fish Fishery of the Gulf of Mexico, so the transceiver set can be properly configured. To use the TT-3026D the vessel owner will need to establish an Inmarsat-C system use contract with an approved Inmarsat-C communications service provider. The owner will be required to complete the Inmarsat-C “Registration for Service Activation for Maritime Mobile Earth Station.” The owner should consult with Thrane & Thrane when completing this form.

Thrane & Thrane personnel will perform the following services before shipment: (1) configure the transceiver according to OLE specifications for vessels issued permits to operate in the Reef Fish Fishery of the Gulf of Mexico; (2) download the predetermined NMFS position reporting and broadcast command identification numbers into the unit; (3) test the unit to ensure operation when installation has been completed on the vessel; and (4) forward the Inmarsat service provider and the transceiver identifying information to OLE.

II. Satellite Communication Services

A. Boatracs

The FMTC/G utilizes a KU band geostationary satellite to provide two-way date services. The satellite transmits and receives all two-way message traffic between the vessel and NMFS, Shore Office, NOC or third party. The satellite is located 22,300 miles over the equator at 103° W Longitude (south of Florida).

Boatracs operates a redundant Network Operations Center (NOC). This facility is online 24 hours a day, 365 days a year, including holidays. Customer service representatives are available to relay messages and provide customer service. The NOC is also the facility that allows for automatic boat-to-boat, boat-to-e-mail, boat-to-fax, and e-mail-to-boat service. Data on demand and information services are also provided by the NOC.

Boatracs contracts their satellite communication services from QUALCOMM Corporation of California. QUALCOMM offers 24x7, 365 days a year network support, and operates fully redundant earth stations in California and Nevada.

VMS units must be installed in accordance with vendor instructions and specifications. All installation costs are paid by the owner. The vessel owner is required to fax the Reef Fish Fishery Activation Fax directly to VMS Support Center at 301-427-0049(fax), or mail to NOAA Fisheries Office for Law Enforcement (OLE), VMS Support Center, 8484 Georgia Avenue, Suite 415, Silver Spring, MD 20910.

The owner must confirm the FMTC/G operation and communications service to ensure that position reports are automatically sent to and received by OLE before leaving on their first fishing trip requiring VMS. OLE does not regard the fishing vessel as meeting the requirements until position reports are automatically received. For confirmation purposes, owners must contact the VMS Support Center, phone 888-219-9228, fax 301-427-0049.

B. Inmarsat C

Telenor Satellite Services

Inmarsat-C is a store-and-forward data messaging service. Inmarsat-C allows users to send and receive information virtually anywhere in the world, on land, at sea, and in the air. Inmarsat-C supports a wide variety of applications including Internet, e-mail, position and weather reporting, a free daily news service, and remote equipment monitoring and control. Mariners can use Inmarsat-C free of charge to send critical safety at sea messages as part of the U.S. Coast Guard's Automated Mutual-Assistance Vessel Rescue system and of the NOAA Shipboard Environmental Acquisition System programs. Telenor Vessel Monitoring System Services is being sold through Thrane & Thrane, Inc. For the Thrane & Thrane and Telenor addresses, look inside this notice under the heading “VMS Provider Addresses.”

Xantic

Xantic is a provider of Vessel Monitoring Services to the maritime industry. By installing an approved OLE Inmarsat-C transceiver on the vessel, vessels can send and receive e-mail, to and from land, while the transceiver automatically sends vessel position reports to OLE, and is fully compliant with the International Coast Guard Search and Rescue Centers. Xantic Vessel Monitoring System Services are being sold through Thrane & Thrane, Inc. For the Thrane & Thrane and Xantic addresses, look in this notice under the heading “VMS Provider Addresses.”

For Telenor and Xantic, Thrane & Thrane customer service supports the security and privacy of vessel accounts and messages with the following: (a) password authentication for vessel owners or agents and for OLE to prevent unauthorized changes or inquiries; and (b) separation of private messages from OLE messages. (OLE requires VMS-related position reports, only.)

Billing is separated between accounts for the vessel owner and the OLE. VMS position reports and vessel-initiated messaging are paid for by the vessel owner. Messaging initiated from OLE operations center is paid for by NOAA.

Thrane & Thrane provides customer service for Telenor and Xantic users to support and establish two-way transmission of transceiver unit configuration commands between the transceiver and land-based control centers. This supports OLE's message needs, and optionally, the crew's private message needs. The vessel owner can configure automatic position reports to be sent to a private address, such as to a fleet management company.

Vessel owners wishing to use Telenor or Xantic services will need to purchase an Inmarsat-C transceiver approved for vessels issued permits to operate in the Reef Fish Fishery of the Gulf of Mexico. The owner will need to complete an Inmarsat-C system use contract with Telenor or Xantic, including a mobile earth station license (FCC requirement). The transceiver will need to be commissioned with Inmarsat according to Telenor or Xantic's instructions. The owner should refer to and follow the configuration, installation, and service activation procedures for the specific transceiver purchased.

The owner must confirm the TT-3026D operation and communications service to ensure that position reports are automatically sent to and received by OLE before leaving on their first fishing trip requiring VMS. OLE does not regard the fishing vessel as meeting the requirements until position reports are automatically received. For confirmation purposes, owners must contact the VMS Support Center, phone 888-219-9228, fax 301-427-0049.

III. VMS Provider Addresses

Boatracs corporate office address is 9155 Brown Deer Rd, Suite 8, San Diego, CA 92121. Telephone numbers are toll free (877) 468-8722 and direct dialed (858)458-8100. The primary point of contact is Debbie Foste, Fisheries Market Segment Executive, e-mail dfoste@boatracs.com, direct telephone number (858)458-8105. The alternate contact is Winston Richardson, e-mail wrichardson@boatracs.com, direct telephone number (858)458-8106.

For Thrane & Thrane Sailor 3026D Gold VMS, Telenor, or Xantic information contact Lauri Paul, Marine Products, Thrane & Thrane, Inc., 509 Viking Drive, Suite K, L & M, Virginia Beach, VA 23452; voice: 757-753-9450 or 757-463-9557; fax: 757-463-9581, e-mail: lp@thrane.com; Web site: http://www.us.thrane.com/.

Dated: September 11, 2006.
William T. Hogarth,
Assistant Administrator for Fisheries, National Marine Fisheries Service.

[FR Doc. E6-15340 Filed 9-14-06; 8:45 am]

BILLING CODE 3510-22-S